DEPARTMENT OF DEFENSE

Office of the Secretary

[Transmittal No. 23-14]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-14, Policy Justification, and Sensitivity of Technology.

Dated: September 9, 2024.
Aaron T. Siegel,
Alternate OSD Federal Register Liaison Officer, Department of Defense.

BILLING CODE 6001-FR-P

BILLING CODE 6001-FR-C

Transmittal No. 23-14

Notice of Proposed Issuance of Letter of Offer Pursuant to Section 36(b)(1) of the Arms Export Control Act, as amended

(i) Prospective Purchaser: Government of Japan

(ii) Total Estimated Value:

Major Defense Equipment * | $1.125 billion
Other | $ .256 billion
TOTAL | $1.381 billion

(iii) Description and Quantity or Quantities of Articles or Services under Consideration for Purchase:

* As defined in Section 47(6) of the Arms Export Control Act.

Major Defense Equipment (MDE):

Five (5) E-2D Advanced Hawkeye (AHE) Airborne Early Warning and Control (AEW&C) Aircraft

Twelve (12) T56-A-427A Engines (10 installed, 2 spares)

Six (6) Multifunction Information Distribution System Joint Tactical Radio System (MIDS JTRS) Terminals (5 installed, 1 spare)

Five (5) APY-9 Radars (installed)

Five (5) AN/AYK-27 Integrated Navigation Control and Display Systems (INCDS) (installed)

Twelve (12) LN-251 Embedded Global Positioning Systems/Inertial Navigation Systems (EGIs) with Embedded Airborne Selective Availability Anti-Spoofing Module (SAASM) or M-Code Receiver (10 installed, 2 spares)

Six (6) ALQ-217 Electronic Support Measures Systems (5 installed and 1 spare)

Non-MDE:

Also included are aircraft ancillary equipment; modifications; spare and repair parts; support equipment; publications and technical documentation; software; personal protective equipment; personnel training and training equipment; ferry services; U.S. Government and contractor logistics, engineering, and technical support services; and other related elements of logistics and program support.

(iv) Military Department: Navy (JA-P-SDF)

(v) Prior Related Cases, if any: JA-P-SCW, JA-P-SCJ, JA-P-SCL, JA-P-SCM, JA-P-SCQ

(vi) Sales Commission, Fee, etc., Paid, Offered, or Agreed to be Paid: None

(vii) Sensitivity of Technology Contained in the Defense Article or Defense Services

Proposed to be Sold: See Attached Annex

(viii) Date Report Delivered to Congress: March 7, 2023

POLICY JUSTIFICATION

Japan—E-2D Advanced Hawkeye Airborne Early Warning and Control Aircraft

The Government of Japan has requested to buy five (5) E-2D Advanced Hawkeye (AHE) Airborne Early Warning and Control (AEW&C) aircraft; twelve (12) T56-A-427A engines (10 installed, 2 spares); six (6) Multifunction Information Distribution System Joint Tactical Radio System (MIDS JTRS) terminals (5 installed, 1 spare); five (5) APY-9 radars (installed); five (5) AN/AYK-27 Integrated Navigation Control and Display Systems (INCDS) (installed); twelve (12) LN-251 Embedded Global Positioning Systems/Inertial Navigation Systems (EGIs) with Embedded Airborne Selective Availability Anti-Spoofing Module (SAASM) or M-Code Receiver (10 installed, 2 spares); and six (6) ALQ-217 Electronic Support Measures Systems (5 installed, 1 spare). Also included are aircraft ancillary equipment; modifications; spare and repair parts; support equipment; publications and technical documentation; software; personal protective equipment; personnel training and training equipment; ferry services; U.S. Government and contractor logistics, engineering, and technical support services; and other related elements of logistics and program support. The estimated total program cost is $1.381 billion.

This proposed sale will support the foreign policy goals and national security objectives of the United States by improving the security of a major ally that is a force for political stability and economic progress in the Asia-Pacific region.

The proposed sale will improve Japan's ability to effectively provide homeland defense utilizing an AEW&C capability. Japan will use the E-2D AHE aircraft to provide AEW&C situational awareness of air and naval activity in the Pacific region and to augment its existing E-2C Hawkeye AEW&C fleet. Japan will have no difficulty absorbing this equipment into its armed forces.

The proposed sale of this equipment and support will not alter the basic military balance in the region.

The principal contractor will be Northrop Grumman Corporation Aerospace Systems, Melbourne, FL. There are no known offset agreements proposed in connection with this potential sale.

Implementation of this proposed sale will not require the assignment of any additional U.S. Government or contractor representatives to Japan. However, U.S. Government or contractor personnel in-country visits will be required, on a temporary basis, in conjunction with program technical and management oversight and support requirements.

There will be no adverse impact on U.S. defense readiness as a result of this proposed sale.

Transmittal No. 23-14

Notice of Proposed Issuance of Letter of Offer Pursuant to Section 36(b)(1) of the Arms Export Control Act

Annex

Item No. vii

(vii) Sensitivity of Technology:

1. The E-2D Advanced Hawkeye (AHE) Airborne Early Warning and Control (AEW&C) provides detection and surveillance of regional surface and aircraft platforms through the use of the APY-9 radar, APX-122A Identification Friend or Foe (IFF), and ALQ-217 Electronic Support Measures (ESM) systems. The E-2D AHE provides area surveillance and detection, air intercept control, air traffic control, search and rescue assistance, communication relay and automatic tactical data exchange.

2. The APY-9 radar is a mechanically rotated, electronically scanned array, which utilizes Space-Time Adaptive Processing (STAP) technology to provide 360-degree detection and surveillance in high clutter environments. It is able to provide simultaneous detection and surveillance of surface and air units.

3. The Multifunction Information Distribution System Joint Tactical Radio System (MIDS JTRS (5)) terminal provides enhanced Link 16 functionality, namely Concurrent Multi-netting with four channels (CMN-4) and Concurrent Contention Receive (CCR). CMN-4 is a Link 16 enhancement that increases the terminal capability from receiving only one Tactical Digital Information Link-J (TADIL-J) message packing structure per time slot to receive as many as four simultaneous message packing structures per time slot, each transmitted on a unique Link 16 net. CCR described the Link 16 terminal's ability to receive multiple messages in the same net within the same time slot.

4. The APX-122A IFF Interrogator and APX-123A IFF Transponder are identification systems designed for command and control. They provide the ability to distinguish friendly aircraft, vehicles, or forces, and to determine their bearing and range from the Interrogator.

5. The ALQ-217 Electronic Support Measure (ESM) system is used to detect, intercept, identify, locate, record, and/or analyze sources of radiated electromagnetic energy to support classification of unknown surface and airborne units.

6. The AN/AYK-27 Integrated Navigation Control and Display System serves as the network manager and the human machine interface for the E-2D navigation system.

7. The LN-251 Embedded Global Positioning Systems/Inertial Navigation Systems (EGIs) with embedded airborne Selective Availability Anti-Spoofing Module (SAASM) or M-Code Receiver (ASR) system provides position, navigation and timing information to the E-2D via the Global Positioning Satellite system and an inertial measuring unit.

8. The highest level of classification of defense articles, components, and services included in this potential sale is SECRET.

9. If a technologically advanced adversary were to obtain knowledge of the specific hardware and software elements, the information could be used to develop countermeasures that might reduce weapon system effectiveness or be used in the development of a system with similar or advanced capabilities.

10. A Special Security Agreement will be in place to provide additional security requirements for implementation by the Government of Japan to protect the advanced capabilities this aircraft provides. This sale is necessary in furtherance of the U.S. foreign policy and national security objectives outlined in the Policy Justification.

11. All defense articles and services listed in this transmittal have been authorized for release and export to the Government of Japan.

[FR Doc. 2024-20743 Filed 9-11-24; 8:45 am]

BILLING CODE 6001-FR-P